DEPARTMENT OF THE INTERIOR

Bureau of Land Management

Notice of Intent To Prepare an Environmental Impact Statement for the Restoration Design Energy Project and Possible Land Use Plan Amendment

AGENCY: Bureau of Land Management, Interior.

ACTION: Notice of Intent.

SUMMARY: In compliance with the National Environmental Policy Act (NEPA) of 1969, as amended, and the Federal Land Policy and Management Act of 1976, as amended, the Bureau of Land Management (BLM) Arizona State Office intends to prepare an Environmental Impact Statement (EIS) to support possible amendments to several BLM-Arizona Resource Management Plans (RMP) to identify sites and/or areas managed by the BLM that may be suitable for the development of renewable energy and to establish appropriate design criteria for such projects. By this notice, BLM-Arizona State Office is announcing the beginning of the scoping process to solicit public comments and identify issues.

DATES: This notice initiates the public scoping process for the EIS and possible plan amendments. Comments on issues may be submitted in writing until March 1, 2010. The dates and locations of any scoping meetings will be announced at least 15 days in advance through local media, newspapers and the BLM Web site at: http://www.blm.gov/az/st/en.html. In order to be included in the Draft EIS, all comments must be received prior to the close of the scoping period or 15 days after the last public meeting, whichever is later. We will provide additional opportunities for public participation upon publication of the Draft EIS.

ADDRESSES: You may submit comments on issues and planning criteria related to the Restoration Design Energy Project by any of the following methods:

• Web site: http://www.blm.gov/az/st/en/prog/energy/arra_solar.htm;

• E-mail: Include your name, any organization you represent, and return address in the e-mail message to: az_arra_rdep@blm.gov;

• Fax: Attn: Teri Raml, (602) 417-9454; and

• Mail or other delivery service: Please be sure to include your name, any organization you represent, and a return address to: Restoration Design Energy Project, Attention: Teri Raml, BLM-Arizona State Office, One North Central Avenue, Suite 800, Phoenix, Arizona 85004-4427.

Documents pertinent to this proposal may be examined at the BLM-Arizona State Office, One North Central Avenue, Suite 800, Phoenix, Arizona 85004.

FOR FURTHER INFORMATION CONTACT: For further information and/or to have your name added to our mailing list, contact Teri Raml, Project Manager, telephone (602) 417-9388; address One North Central Avenue, Suite 800, Phoenix, Arizona 85004; or by e-mail teri_raml@blm.gov.

SUPPLEMENTARY INFORMATION: The purpose of the Restoration Design Energy Project is to foster environmentally responsible production of renewable energy by amending plans, as necessary, to identify sites or areas that are already disturbed or that may be in need of some level of remediation or restoration, and which may be suitable for siting of renewable energy projects, as well as allocate such sites or areas for this purpose. Possible plan amendments may also include decisions about acquisition, disposal, or retention of sites or areas. The BLM will establish management direction for lands acquired for the purposes of this Project or will extend the applicable land use plan decisions to these lands, provided there are no unresolved management issues associated with the newly acquired lands. The environmental analysis will address, at each site or area, both existing remediation needs and any potential for renewable energy generation, and may also identify project design criteria to address environmental issues particular to the site or area identified. Implementation of the Project will help meet community energy needs, create economic opportunities, and provide good value to the taxpayer for the use of public lands. To accomplish this, some or all of the BLM's RMPs throughout Arizona may need to be amended. Plans that may be amended include the following: the Yuma Field Office RMP—2010; the Agua Fria and Bradshaw-Harquahala RMP—2010; the Arizona Strip Field Office RMP—2008; the Lake Havasu Field Office RMP—2007; the Kingman Resource Area RMP—1995; the Safford District RMP—1991; the Phoenix RMP—1988; the Lower Gila South RMP—1988 as amended 2005; and the Lower Gila North Management Framework Plan—1983 as amended 2005.

The Energy Policy Act of 2005 (Title II, Sec. 211) establishes a goal that at least 10,000 megawatts of renewable energy production capacity be approved on public lands by 2015. Additionally, Secretarial Order 3285 directs agencies within the Department of the Interior to encourage the development of environmentally responsible renewable energy generation. The Project is consistent with the Congressional direction, Department of the Interior policies, and is unique in that it offers an alternative process for site selection that includes the identification of lands in need of remediation that have renewable energy generation potential. At the initiation of the Project, the BLM-Arizona State Office requested individual field offices and members of the public to identify previously utilized sites that might be suitable for development of renewable energy for consideration for inclusion in the Project. Examples of submitted sites include gravel pits, mine sites, landfills, isolated parcels that have been disturbed, and abandoned unauthorized airstrips. Sites and/or areas proposed for the Project will be analyzed according to the BLM's planning regulations at 43 CFR part 1600, and proposed planning amendments will analyzed in the EIS. This analysis will take into consideration: (1) 42 proposed sites covering approximately 26,000 acres; (2) knowledge of existing and proposed energy transmission options; (3) concentrations of existing and proposed energy generation; (4) technical factors; and (5) environmental factors. The sites submitted so far include BLM-administered, State, municipal, and private lands. While the BLM planning process will primarily address management of those lands and interests in lands administered by the BLM, the analysis in the EIS may be broader in scope. Additional restoration design concepts, which may be incorporated into the possible design criteria applicable to particular sites or areas, are expected to be developed through scoping. Suitable sites for application of this approach to reuse of land may also continue to be identified over time, and may be considered in this or subsequent planning initiatives, depending on when they are identified.

The purpose of the public scoping process is to determine relevant issues that will influence the scope of the environmental analysis, including alternatives, and guide the process for developing the EIS. At present, the BLM has identified the following preliminary issues: (1) Site or area suitability for renewable energy generation and scale of possible generation; (2) site or area proximity to the existing electrical transmission grid and the feasibility of integrating new electric generation projects with the grid; (3) site or area proximity to population and electric use (load) centers; (4) determining the appropriate renewable energy generation technologies for implementation on a site-by-site and/or area-by-area basis; and (5) the possible need for environmental remediation of project sites or areas based on previous uses and levels of disturbance and possible contamination of the sites or areas, as well as how addressing the possible need for remediation may be incorporated into design criteria that may be applicable to projects proposed for a particular site or area.

The EIS will use existing data for the analysis to support the planning decisions (e.g., allocation, disposal, or retention decisions) that may be made as a result of this initiative. When individual project proposals for renewable development are received, any site-specific analysis could be tiered to the EIS for this Project to avoid unnecessary duplication of analysis.

Authorization of the project may require amendment of some or all of the BLM RMPs throughout Arizona, as listed above. By this notice, the BLM is complying with requirements in 43 CFR 1610.2(c) to notify the public of potential amendments to land use plans, predicated on the findings of the EIS. If land use plan amendments are necessary, the BLM will integrate the land use planning process with the NEPA process for this project.

The BLM will utilize and coordinate the NEPA commenting process to satisfy the public involvement process for Section 106 of the National Historic Preservation Act (16 U.S.C. 470f) as provided for in 36 CFR 800.2(d)(3). Native American Tribal consultations will be conducted and Tribal concerns, including impacts on Indian trust assets, will be given due consideration. Federal, State, and local agencies, along with other stakeholders that may be interested or affected by the BLM's decision on this project are invited to participate in the scoping process and, if eligible, may request or be requested by the BLM to participate as a cooperating agency. Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Helen Hankins,
BLM Associate State Director.

[FR Doc. 2010-404 Filed 1-12-10; 8:45 am]

BILLING CODE 4310-32-P